DEPARTMENT OF HEALTH AND HUMAN SERVICES

Indian Health Service

RIN 0917-AA19

Reimbursement Rates for Calendar Year 2021

AGENCY: Indian Health Service (IHS), Department of Health and Human Services (HHS).

ACTION: Notice.

SUMMARY: Notice is provided that the Director of the Indian Health Service has approved the rates for inpatient and outpatient medical care provided by IHS facilities for Calendar Year 2021.

SUPPLEMENTARY INFORMATION: The Director of the Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2021 for Medicare and Medicaid beneficiaries, beneficiaries of other federal programs, and for recoveries under the Federal Medical Care Recovery Act (42 U.S.C. 2651-2653). The inpatient rates for Medicare Part A are excluded from the table below. That is because Medicare inpatient payments for IHS hospital facilities are made based on the prospective payment system, or (when IHS facilities are designated as Medicare Critical Access Hospitals) on a reasonable cost basis. Since the inpatient per diem rates set forth below do not include all physician services and practitioner services, additional payment shall be available to the extent that those services are provided.

Inpatient Hospital Per Diem Rate (Excludes Physician/Practitioner Services)

Calendar Year 2021

Lower 48 States $3,631

Alaska $3,384

Outpatient Per Visit Rate (Excluding Medicare)

Calendar Year 2021

Lower 48 States $519

Alaska $808

Outpatient Per Visit Rate (Medicare)

Calendar Year 2021

Lower 48 States $414

Alaska $662

Medicare Part B Inpatient Ancillary Per Diem Rate

Calendar Year 2021

Lower 48 States $678

Alaska $1,039

Outpatient Surgery Rate (Medicare)

Established Medicare rates for freestanding Ambulatory Surgery Centers.

Effective Date for Calendar Year 2021 Rates

Consistent with previous annual rate revisions, the Calendar Year 2021 rates will be effective for services provided on/or after January 1, 2021, to the extent consistent with payment authorities, including the applicable Medicaid State plan.

Michael D. Weahkee,
Assistant Surgeon General, RADM, U.S. Public Health Service, Director, Indian Health Service.

[FR Doc. 2020-28950 Filed 12-30-20; 8:45 am]

BILLING CODE 4165-16-P